DEPARTMENT OF ENERGY

Federal Energy Regulatory Commission

Combined Notice of Filings #1

February 13, 2006.

Take notice that the Commission received the following electric rate filings:

Docket Numbers: ER00-3251-011; ER99-754-013; ER98-1734-011; ER01-1919-008; ER99-2404-008; ER01-513-011; ER01-513-012; ER01-513-013; ER01-513-014; ER01-513-015.

Applicants: Exelon Generating Company, LLC; AmerGen Energy Company, LLC; Commonwealth Edison Company; Exelon Energy Company; Exelon New England Power Marketing, L.P.; Exelon Edgar, LLC; Exelon West Medway, LLC; Exelon Wyman, LLC; Exelon New Boston, LLC Exelon Framingham, LLC.

Description: Exelon Generation Co. LLC et al. submits revised tariff sheets to correct the error noted in its 1/19/06 filing as part of the market-based rate.

Filed Date: 02/06/2006.

Accession Number: 20060208-0314.

Comment Date: 5 p.m. Eastern Time on Tuesday, February 21, 2006.

Docket Numbers: ER05-1249-002.

Applicants: Granite State Electric Company et al.

Description: Granite State Electric Co. d/b/a National Grid submits its refund compliance report two business days out of time.

Filed Date: 02/06/2006.

Accession Number: 20060206-5053.

Comment Date: 5 p.m. Eastern Time on Monday, February 27, 2006.

Docket Numbers: ER06-185-001.

Applicants: New York Independent System Operator, Inc.

Description: New York Independent System Operator, Inc. submits requested information pertaining to its 11/08/05 filing and requests privileged and confidential treatment to the data.

Filed Date: 02/06/2006.

Accession Number: 20060208-0243.

Comment Date: 5 p.m. Eastern Time on Monday, February 27, 2006.

Docket Numbers: ER06-380-001; ER06-381-001; ER06-382-001; ER06-383-001; ER06-388-001; ER06-389-001; ER06-390-001; ER06-391-001; ER06-392-001; ER06-393-001; ER06-394-001; ER06-395-001.

Applicants: Kentucky Utilities Company.

Description: Kentucky Utilities Co.'s submits informational supplement to its 12/23/05 filing.

Filed Date: 02/03/2006.

Accession Number: 20060213-0007.

Comment Date: 5 p.m. Eastern Time on Friday, February 24, 2006.

Docket Numbers: ER06-429-002.

Applicants: Florida Power Corporation.

Description: Florida Power Corp. dba Progress Energy Florida, Inc. submits corrected sheet in compliance with Orders 661 and 661-A, issued 6/2/05.

Filed Date: 02/06/2006.

Accession Number: 20060208-0276.

Comment Date: 5 p.m. Eastern Time on Monday, February 27, 2006.

Docket Numbers: ER06-430-002.

Applicants: Progress Energy Services Company, LLC.

Description: Progress Energy Service Co., LLC on behalf of Carolina Power & Light Co. dba Progress Energy Carolinas, Inc. submits a corrected tariff sheet to its FERC Electric Tariff, Third Revised Volume No. 3.

Filed Date: 02/06/2006.

Accession Number: 20060210-0027.

Comment Date: 5 p.m. Eastern Time on Monday, February 27, 2006.

Docket Numbers: ER06-611-000.

Applicants: PJM Interconnection, LLC.

Description: PJM Interconnection LLC submits an interconnection service agreement among PJM, Southeastern Chester County Refuse Authority and PECO Energy Co.

Filed Date: 02/06/2006.

Accession Number: 20060208-0170.

Comment Date: 5 p.m. Eastern Time on Monday, February 27, 2006.

Docket Numbers: ER06-612-000.

Applicants: Southern California Edison Company.

Description: Southern California Edison Co. submits a Letter Agreement with Garnet Energy Corporation.

Filed Date: 02/06/2006.

Accession Number: 20060208-0172.

Comment Date: 5 p.m. Eastern Time on Monday, February 27, 2006.

Docket Numbers: ER06-613-000.

Applicants: ISO New England Inc.

Description: ISO New England In.c et al. submits a package of market improvements that have been developed as Phase II of the Ancillary Service Market Project.

Filed Date: 02/06/2006.

Accession Number: 20060208-0386.

Comment Date: 5 p.m. Eastern Time on Monday, February 27, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-2380 Filed 2-17-06; 8:45 am]

BILLING CODE 6717-01-P